DEPARTMENT OF TRANSPORTATION

Federal Aviation Administration

14 CFR Part 39

[Docket No. FAA-2013-0604; Directorate Identifier 2012-SW-110-AD]

RIN 2120-AA64

Airworthiness Directives; AgustaWestland S.p.A. (Type Certificate Previously Held by Agusta S.p.A.) Helicopters

AGENCY: Federal Aviation Administration (FAA), DOT.

ACTION: Notice of proposed rulemaking (NPRM).

SUMMARY: We propose to adopt a new airworthiness directive (AD) for certain AgustaWestland S.p.A. (Agusta) Model AB139 and AW139 helicopters. This proposed AD would require inspecting the nose landing gear (NLG) pin installations for incorrect assembly. This proposed AD is prompted by reports of incorrectly installed pins discovered on in-service aircraft. The proposed actions are intended to detect incorrectly installed pins, which could result in collapse of the NLG during taxi or landing.

DATES: We must receive comments on this proposed AD by September 10, 2013.

ADDRESSES: You may send comments by any of the following methods:

• Federal eRulemaking Docket: Go to http://www.regulations.gov. Follow the online instructions for sending your comments electronically.

• Fax: 202-493-2251.

• Mail: Send comments to the U.S. Department of Transportation, Docket Operations, M-30, West Building Ground Floor, Room W12-140, 1200 New Jersey Avenue SE., Washington, DC 20590-0001.

• Hand Delivery: Deliver to the “Mail” address between 9 a.m. and 5 p.m., Monday through Friday, except Federal holidays.

Examining the AD Docket

You may examine the AD docket on the Internet at http://www.regulations.gov or in person at the Docket Operations Office between 9 a.m. and 5 p.m., Monday through Friday, except Federal holidays. The AD docket contains this proposed AD, the economic evaluation, any comments received, and other information. The street address for the Docket Operations Office (telephone 800-647-5527) is in the ADDRESSES section. Comments will be available in the AD docket shortly after receipt.

For service information identified in this proposed AD, contact Agusta Westland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

FOR FURTHER INFORMATION CONTACT: Robert Grant, Aviation Safety Engineer, Safety Management Group, FAA, 2601 Meacham Blvd., Fort Worth, Texas 76137; telephone 817-222-5328; email robert.grant@faa.gov.

SUPPLEMENTARY INFORMATION:

Comments Invited

We invite you to participate in this rulemaking by submitting written comments, data, or views. We also invite comments relating to the economic, environmental, energy, or federalism impacts that might result from adopting the proposals in this document. The most helpful comments reference a specific portion of the proposal, explain the reason for any recommended change, and include supporting data. To ensure the docket does not contain duplicate comments, commenters should send only one copy of written comments, or if comments are filed electronically, commenters should submit only one time.

We will file in the docket all comments that we receive, as well as a report summarizing each substantive public contact with FAA personnel concerning this proposed rulemaking. Before acting on this proposal, we will consider all comments we receive on or before the closing date for comments. We will consider comments filed after the comment period has closed if it is possible to do so without incurring expense or delay. We may change this proposal in light of the comments we receive.

Discussion

The European Aviation Safety Agency (EASA), which is the Technical Agent for the Member States of the European Union, has issued EASA AD No. 2012-0262, dated December 14, 2012 (EASA AD 2012-0262), to correct an unsafe condition for the Agusta Model AB139 and AW139 helicopters. EASA advises that incorrectly installed NLG pins, part number 1661-0001, were discovered on several aircraft. Incorrectly installed pins create a pre-stress condition on the pin flange. According to EASA, a subsequent technical investigation by Agusta concluded that the incorrect installation could be present on a number of other helicopters. EASA states that this condition could lead to NLG structural failure and consequent collapse during landing or taxi, resulting in damage to the helicopter and injury to the occupants. EASA AD 2012-0262 requires inspecting the NLG pin installation on both the left and right arms to determine if the pin, washers, and nuts are correctly installed and, depending on findings, inspecting the bolts, nuts, and pins for corrosion, and also inspecting the pins for surface cracks, and correctly installing the pins.

FAA's Determination

These helicopters have been approved by the aviation authority of Italy and are approved for operation in the United States. Pursuant to our bilateral agreement with Italy, EASA, its technical representative, has notified us of the unsafe condition described in its AD. We are proposing this AD because we evaluated all known relevant information and determined that an unsafe condition is likely to exist or develop on other products of the same type design.

Related Service Information

Agusta has issued Bollettino Tecnico No. 139-306, dated December 12, 2012 (BT 139-306), for Model AB139 and AW139 helicopters. BT 139-306 describes procedures to inspect for correct installation of the bolts, nuts, washers, and pins, inspecting the bolt head and nut for corrosion, and inspecting the pins for surface cracks.

Proposed AD Requirements

This proposed AD would require, within 50 hours time in service (TIS), inspecting the pin installations in the left and right arms for correct installation of the pin, bolts, washers, and nuts.

• If the installation is not correct, this proposed AD would require:

○ Inspecting the bolt and nut for corrosion. If there is any corrosion, removing the bolt and nut from service.

○ Inspecting the pin for corrosion, a crack, and damage. If there is any corrosion, removing the corrosion and measuring the pin diameter. If the pin diameter is less than 25.36 mm (.998 in) or if there is a crack in the pin, removing the pin from service.

○ Dye penetrant inspecting the pin flange for surface cracks. If there is a surface crack, removing the pin from service.

• If the installation is correct, inspecting the bolt head and nut for corrosion would be required. If there is any corrosion, removing the bolt or nut from service would be required.

Differences Between This Proposed AD and the EASA AD

The EASA AD requires compliance within 50 flight hours or 1 month, while this proposed AD requires compliance within 50 hours TIS.

Costs of Compliance

We estimate that this proposed AD would affect 102 helicopters of U.S. Registry. We estimate that operators may incur the following costs in order to comply with this AD. At an average labor rate of $85 per hour, inspecting the nose landing gear arm pins would require about 1 work hour, for a cost per helicopter of $85 and a total cost to U.S. operators of $8,670. If required, replacing a pin would require about 1 work hour, and required parts cost $1,680, for a cost per helicopter of $1,765. The cost to replace a bolt or nut is minimal.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This proposed regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed, I certify this proposed regulation:

1. Is not a “significant regulatory action” under Executive Order 12866;

2. Is not a “significant rule” under the DOT Regulatory Policies and Procedures (44 FR 11034, February 26, 1979);

3. Will not affect intrastate aviation in Alaska to the extent that it justifies making a regulatory distinction; and

4. Will not have a significant economic impact, positive or negative, on a substantial number of small entities under the criteria of the Regulatory Flexibility Act.

We prepared an economic evaluation of the estimated costs to comply with this proposed AD and placed it in the AD docket.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

AgustaWestland S.p.A. (Type Certificate Formerly Held By Agusta S.p.A.) Helicopters: Docket No. FAA-2013-0604; Directorate Identifier 2012-SW-110-AD.

(a) Applicability

This AD applies to AgustaWestland S.p.A. (Agusta) Model AB139 and AW139 helicopters, serial number 31005, 31006, 31008 through 31157, 31201 through 31398, 31400 through 31412, 31414, 31416, 31418, 31419, 31421, 31425, 31426, 31428, 31432, 31440, 41001 through 41023, 41201 through 41275, 41277 through 41286, 41288, 41293, 41300, 41301, 41303, 41307, 41308, and 41310, with a nose landing gear (NLG) pin part number (P/N) 1661-0001 installed, certificated in any category.

(b) Unsafe Condition

This AD defines the unsafe condition as an incorrect installation of a NLG pin, which could result in collapse of the NLG during taxi or landing.

(c) Comments Due Date

We must receive comments by September 10, 2013.

(d) Compliance

You are responsible for performing each action required by this AD within the specified compliance time unless it has already been accomplished prior to that time.

(e) Required Actions

Within 50 hours time-in-service:

(1) Inspect the NLG pin installations on the left and right arms to determine whether the bolt (item 2), washer (item 3) under the bolt head, washer (item 4) between the NLG arm and pin, pin (item 5), washer (item 6) under the nut, nut (item 7), and cotter pin (item 8) are installed as depicted in Figure 1 of Agusta Bollettino Tecnico (BT) No. 139-306, dated December 12, 2012 (BT 139-306).

(2) If any part is not installed as depicted in Figure 1 of BT 139-306, before further flight, disassemble items 2 through 8 and accomplish the following:

(i) Inspect each bolt and nut for corrosion. If there is any corrosion on a bolt or nut, remove the bolt and nut from service.

(ii) Inspect each pin for corrosion and damage. If there is any corrosion or damage:

(A) Remove the corrosion and damage with an abrasive stone or glass fiber brush.

(B) Measure the pin diameter. If the pin diameter is less than 25.36 mm (0.998 inch), remove the pin from service.

(iii) Inspect each pin for a crack. If there is a crack, remove the pin from service.

(iv) Dye penetrant inspect the pin flange for a crack. If there is a crack, remove the pin from service.

(3) If items 2 through 8 are installed as depicted in Figure 1 of BT 139-306, inspect each bolt head and nut for corrosion. If there is any corrosion on a bolt head or nut, before further flight, remove the bolt or nut from service.

(f) Special Flight Permit

Special flight permits are prohibited.

(g) Alternative Methods of Compliance (AMOCs)

(1) The Manager, Safety Management Group, FAA, may approve AMOCs for this AD. Send your proposal to: Robert Grant, Aviation Safety Engineer, Safety Management Group, FAA, 2601 Meacham Blvd., Fort Worth, Texas 76137; telephone 817-222-5328; email robert.grant@faa.gov.

(2) For operations conducted under a 14 CFR part 119 operating certificate or under 14 CFR part 91, subpart K, we suggest that you notify your principal inspector, or lacking a principal inspector, the manager of the local flight standards district office or certificate holding district office before operating any aircraft complying with this AD through an AMOC.

(h) Additional Information

(1) The Aircraft Maintenance Plan, DM No. 39-A-60-40-00-01A-351A-D, which is not incorporated by reference, contains additional information about the subject of this AD. For service information identified in this AD, contact Agusta Westland, Customer Support & Services, Via Per Tornavento 15, 21019 Somma Lombardo (VA) Italy, ATTN: Giovanni Cecchelli; telephone 39-0331-711133; fax 39 0331 711180; or at http://www.agustawestland.com/technical-bullettins. You may review the referenced service information at the FAA, Office of the Regional Counsel, Southwest Region, 2601 Meacham Blvd., Room 663, Fort Worth, Texas 76137.

(2) The subject of this AD is addressed in European Aviation Safety Agency AD No. 2012-0262, dated December 14, 2012, which you may view in the AD Docket on the Internet at http://www.regulations.gov.

(i) Subject

Joint Aircraft Service Component (JASC) Code: 3221: Nose Landing Gear Attach Section.

Issued in Fort Worth, Texas, on July 3, 2013.
Kim Smith,
Directorate Manager, Rotorcraft Directorate, Aircraft Certification Service.

[FR Doc. 2013-16694 Filed 7-11-13; 8:45 am]

BILLING CODE 4910-13-P